DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-seventh meeting.

Name: National Advisory Committee on Rural Health and Human Services.

Dates and Times: September 12, 2007, 8 a.m.-5:30 p.m.; September 13, 2007, 8 a.m.-5 p.m.; September 14, 2007, 8 a.m.-11 a.m.

Place: Best Western Inn on the Park, 22 South Carroll Street, Madison, WI 53703, Phone: 608-257-8811.

Status: The meeting will be open to the public.

Purpose: The National Advisory Committee on Rural Health and Human Services provides advice and recommendations to the Secretary with respect to the delivery, research, development and administration of health and human services in rural areas.

Agenda: Wednesday morning, at 8 a.m., the meeting will be called to order by the Chairperson of the Committee, the Honorable David Beasley. The first session will be a snapshot of Wisconsin, focusing on the challenges related to jobs, income, and educational level and a look at health and human services assets and liabilities. The next presentation will examine collaborative approaches to increase the supply of physicians for rural Wisconsin. Following this presentation will be discussions on State Medicaid waivers to improve access to healthcare and welfare reform. The next presentation will be a panel discussion by Toyota on health and human services integration in Tupelo, Mississippi, and the implications on the community of the new Toyota factory. The Committee will break into Subcommittee format for the remainder of the day's meeting. The Wednesday meeting will close at 5:30 p.m.

Thursday morning, September 13, at 8 a.m., the Committee will meet briefly to discuss the site visit. At 8:30 a.m., the Committee will depart for Sauk City, Wisconsin. The Committee will hear presentations on health and human services issues facing the community. Transportation to the site visit will not be provided. The Committee will return to the Best Western Inn on the Park to resume the meeting in Subcommittee format at 2 p.m. The Thursday meeting will close at 5 p.m.

The final session will be convened Friday morning, September 14, at 8 a.m. The Committee will have a discussion on the site visit. Following this discussion will be a report by the Subcommittees on the progress with the report chapters; discussion on the letter to the Secretary; and discussion on the upcoming February meeting. The meeting will be adjourned at 11 a.m.

FOR FURTHER INFORMATION CONTACT: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: July 24, 2007.
Alexandra Huttinger,
Acting Director, Division of Policy Review and Coordination.

[FR Doc. E7-14927 Filed 8-1-07; 8:45 am]

BILLING CODE 4165-15-P